DEPARTMENT OF AGRICULTURE

Submission for OMB Review; Comment Request

January 30, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Annual Report of State Revenue Matching.

OMB Control Number: 0584-0075.

Summary of Collection: The Food and Nutrition Service (FNS) administers the National School Lunch Program, the School Breakfast Program, and the Special Milk Program as mandated by the Richard B. Russell National School Lunch Act, as amended (42 U.S.C. 1751, et seq.), and the Child Nutrition Act of 1966, as amended (42 U.S.C. 1771, et seq.). FNS uses the Annual Report of State Revenue Matching, Form FNS-13, to collect data on State revenue matching to meet the reporting required by 7 CFR 210.17(g). Information on school program operations is collected from State agencies on a yearly basis to monitor and make adjustments to State agency funding requirements. The form is an intrinsic part of the accounting system currently being used by the subject programs to ensure proper reimbursement as well as to facilitate adequate recordkeeping. The FNS-13 form is provided to States through a web-based Federal reporting system and 100 percent of the information is collected through electronic means.

Need and Use of the Information: FNS uses the Annual Report of State Revenue Matching, Form FNS-13, to collect data on State revenue matching to meet the reporting required by 7 CFR 210.17(g). Information on school program operations is collected from State agencies on a yearly basis to monitor and make adjustments to State agency funding requirements.

Description of Respondents: State, Local, or Tribal Government.

Number of Respondents: 57.

Frequency of Responses: Recordkeeping; Reporting: Annually.

Total Burden Hours: 456.

Ruth Brown,
Departmental Information Collection Clearance Officer.

[FR Doc. 2014-02347 Filed 2-4-14; 8:45 am]

BILLING CODE 3410-30-P